DEPARTMENT OF THE INTERIOR

National Park Service

Notice of Intent To Repatriate Cultural Items: Southwest Museum of the American Indian, Autry National Center, Los Angeles, CA

AGENCY: National Park Service, Interior.

ACTION: Notice.

Notice is here given in accordance with the Native American Graves Protection and Repatriation Act (NAGPRA), 25 U.S.C. 3005, of the intent to repatriate cultural items in the possession of the Southwest Museum of the American Indian, Autry National Center, Los Angeles, CA, that meet the definitions of “sacred objects” and “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.>

The 55 cultural items are 42 pieces of Dilzini Gaan dance material, 6 Dilzini Gaan headdresses, 2 Dilzini Gaan dance wands, 2 crosses, 1 shirt, 1 medicine bundle, and 1 cap.

Southwest Museum officials identified the cultural items and assessed the cultural affiliation of the cultural items at the request of the San Carlos Apache Tribe of the San Carlos Reservation, Arizona; Tonto Apache Tribe of Arizona; White Mountain Apache Tribe of the Fort Apache Reservation, Arizona; and Yavapai-Apache Nation of the Camp Verde Indian Reservation, Arizona, which are members of the Western Apache NAGPRA Working Group. Southwest Museum officials also consulted with representatives of the Apache Tribe of Oklahoma; Fort Sill Apache Tribe of Oklahoma; Jicarilla Apache Nation, New Mexico; and Mescalero Apache Tribe of the Mescalero Reservation, New Mexico.

At an unknown time, the Southwest Museum purchased 42 painted and carved wooden pieces of Dilzini Gaan dance material from an unknown person at an unknown location with money provided by the General Charles McCormack Reeve Fund. No further information has been found to clarify means of acquisition by the donor.

The 42 wooden pieces of Dilzini Gaan dance material range from 4 to 30 inches in length, and average 2 inches in breadth and .25 inches in depth. Some of the wooden pieces have been sharpened to a point at each end, others remain squared and blunt, while others exhibit notched, flattened or broken edges.

On May 24, 1940, the Southwest Museum acquired one Dilzini Gaan headdress from Miss Rose Dougan. Museum records identify the cultural item as an Apache “Devil Dance” headdress with a cloth mask. No further information has been found to clarify means or location of acquisition by the donor.

The Dilzini Gaan headdress is composed of wooden slats arranged in a fan shape measuring approximately 38 inches wide and 23 inches high. The slats are decorated with green, blue, orange, and white paint. Two tassels made of four slender, blue wooden rods are attached to the laterally projecting slats, one tassel on the right side and one on the left side. The mask is approximately 11 inches wide and 17.5 inches long. It is made of a flour sack painted black. One side of the mask is imprinted with the words, “Loveland flour...Love Me.” Two slits have been made near the wearer's eyes. Above these holes are a feather and four white triangles.

On December 3, 1935, the Southwest Museum purchased three Dilzini Gaan headdresses from Ms. Bonnie Gray of Burbank, CA, with money provided by the General Charles McCormack Reeve Fund. According to correspondence found in the museum records, Ms. Gray and a companion unearthed the masks in Arizona from the floor of a deserted Apache cabin during the middle of the night. Museum records identify all four headdresses as Apache “Devil Dance” material.

The first of the three Dilzini Gaan headdresses is made of wooden slats tied together with sinew arranged in a fan shape measuring approximately 31 inches wide and 35 inches high. The slats are decorated with small mirrors and red, black, blue and yellow painted zigzags, arrows, birds, and geometric designs. A black cloth mask is attached to the frame with two slits made for the wearer's eyes. The second Dilzini Gaan headdress is made of wooden slats tied together with sinew arranged in a fan shape measuring approximately 30.5 inches wide and 36 inches high. Blue, red-orange, black, purple, green, and yellow triangles, diamonds, circles, and other geometric shapes have been painted on both sides of the wooden slats. The third Dilzini Gaan headdress is made of long wooden slats divided into three groups and connected by smaller wooden slats to create a fan shaped arc tied together with sinew. It measures approximately 26 inches wide and 40 inches high. Red, yellow, blue, purple, and green diamonds, scallops, triangles, and dots have been painted on both sides of the slats. Mirrors adhere to the longer slats and one mirror appears to be missing. Two tassels made of four slender yellow wooden rods are attached to the laterally projecting slats. There is no mask for the headdress.

On December 31, 1941, the Southwest Museum received one Dilzini Gaan headdress and two Dilzini Gaan dance wands from Mr. M.R. Harrington, Director of Research, Southwest Museum, originating from an unspecified area in Arizona. Museum records identify the material as Apache “Devil Dance” material. No further information has been found to clarify means of acquisition by the donor.

The Dilzini Gaan headdress is made of long wooden slats tied together with sinew and arranged in a fan shape. It measures approximately 30 inches wide and 31 inches high. Blue, red, and orange triangles, diamonds, and dots have been painted on the slats. Two tassels made of four slender wooden rods are attached to the laterally projecting slats. A black cloth mask is attached to the wooden frame. Two slits have been made for the wearer's eyes, and silver buttons are sewn in the same vicinity. The two Dilzini Gaan dance wands are made of six pointed wooden slats tied together horizontally and attached perpendicularly to a long wooden handle. Red diamonds have been painted onto the plane created by the horizontal wooden slats.

On December 12, 1950, the Southwest Museum acquired one Dilzini Gaan headdress from Mr. Owen L. Gothard of Clark County, NV. Museum records identify the item as Apache “Devil Dance” material. No further information has been found to clarify means of acquisition by the donor.

The Dilzini Gaan headdress is made of wooden slats of various lengths tied together with sinew in both a horizontal and vertical direction. The slats form a rectangle approximately 19 inches wide and 20.25 inches high. Black, yellow, red, and blue geometric designs have been painted on both surfaces. A dark cloth face mask is attached to the frame. The mask measures approximately 18.75 inches in long.

On March 5, 1943, the Southwest Museum received two cultural items from Mr. John W. Ennis, Jr., of Los Angeles, CA. Museum records identify the items as a Western Apache medicine shirt and a medicine bundle composed of a plaque and deerskin bag. According to database records, the two cultural items were originally obtained by a missionary. It is unclear how Mr. Ennis, Jr., came to possess the cultural items. No further information has been found to clarify means or location of acquisition by the donor.

The medicine shirt, or shaman's garment, is a painted deer hide with a scalloped border measuring approximately 25.5 inches wide and 30 inches long. A slit has been cut near the center for the wearer's neck. Black, yellow, and green designs have been painted on both sides of the hide. The medicine bundle is composed of two items. The first item is a wooden plaque measuring approximately 9.5 inches wide and 4 inches long. An orange, black, and white figure has been painted on the plaque surface. A deerskin thong and feathers are attached to a center perforation. The second item is a deerskin bag with shoulder strap. The bag measures approximately 9.75 inches wide and 4.75 inches long. A green, black, and yellow figure has been painted on the bag, similar to the one on the wooden plaque. Eight groups of feathers are attached to the bag and along the length of the strap.

On an unknown date, the Southwest Museum purchased two wooden crosses from Mr. Bill Smith with money provided by the General Charles McCormack Reeve Fund. No further information has been found to clarify means of acquisition by the donor.

The first cross is 56 inches high, 33.5 inches across, and .25 inches thick. The cross is composed of five long wooden slats tapered to a point distally, traversed horizontally by five shorter wooden slats. Blue, black, and white zigzagged lines have been painted on the surface. A circular appendage has been attached to the top of the cross. Two dark brown feathers measuring 12 inches in length remain tied to the cross by a cloth cord. The second cross is 52 inches high, 24 inches across, and .25 inches thick. The cross is composed of five long wooden slats tapered to a point distally, traversed horizontally by five shorter wooden slats. Blue, black, and white zigzagged lines have been painted on the surface.

On February 2, 1959, the Southwest Museum acquired one cap from Mr. Julian Adams of Marino, CA, as part of the Mary E. Adams ethnological collection. Museum records identify the cap as Apache. The cap is a man's buckskin cap and exhibits white, black, and dark red beads sewn in a star pattern. Seven eagle feathers are attached to the top. No further information has been found to clarify the means or location of acquisition by the donor.

Consultation and physical inspection of the cultural items described above by knowledgeable Western Apache traditional cultural authorities of the San Carlos Apache Tribe of the San Carlos Reservation, Arizona; Tonto Apache Tribe of Arizona; White Mountain Apache Tribe of the Fort Apache Reservation, Arizona; and Yavapai-Apache Nation of the Camp Verde Indian Reservation, Arizona have identified the cultural items as culturally affiliated with Western Apache Indian tribes. According to the traditional cultural authorities, the cultural items have ongoing historical, traditional, and cultural importance to the Western Apache, and today, must be returned to the tribes representing the Western Apache to fully complete the ceremonial cycle into which they were introduced; as such, the cultural items are objects of cultural patrimony.

According to Western Apache traditional cultural authorities, the 55 cultural items are made and handled according to instructions received from the Creator. The Creator is the only One who has the right to possess the cultural items after their use by humans. The cultural items must be put away properly to return them to the Creator; as such, the cultural items are sacred objects. The Western Apache are represented today by the federally recognized San Carlos Apache Tribe of the San Carlos Reservation, Arizona; Tonto Apache Tribe of Arizona; White Mountain Apache Tribe of the Fort Apache Reservation, Arizona; and Yavapai-Apache Nation of the Camp Verde Indian Reservation, Arizona. These four tribes are members of the Western Apache NAGPRA Working Group.

Officials of the Southwest Museum have determined that, pursuant to 25 U.S.C. 3001 (3)(C), the 55 cultural items described above are specific ceremonial objects needed by traditional Native American religious leaders for the practice of traditional Native American religions by their present-day adherents. Officials of the Southwest Museum have also determined that, pursuant to 25 U.S.C. 3001 (3)(D), the 55 cultural items described above have ongoing historical, traditional, or cultural importance central to the Native American group or culture itself, rather than property owned by an individual. Lastly, officials of the Southwest Museum have determined that, pursuant to 25 U.S.C. 3001 (2), there is a relationship of shared group identity that can be reasonably traced between the objects of cultural patrimony and sacred objects and the San Carlos Apache Tribe of the San Carlos Reservation, Arizona; Tonto Apache Tribe of Arizona; White Mountain Apache Tribe of the Fort Apache Reservation, Arizona; and Yavapai-Apache Nation of the Camp Verde Indian Reservation, Arizona.

Representatives of any other Indian tribe that believes itself to be culturally affiliated with the objects of cultural patrimony and sacred objects should contact Dr. Duane H. King, Executive Director, or Jamie Hebert, NAGPRA Research Associate for Collections, Southwest Museum of the American Indian, Autry National Center, 234 Museum Drive, Los Angeles, CA 90065, telephone (323) 221-2164 extension 241, before December 4, 2006. Repatriation of the objects of cultural patrimony and scared objects to the San Carlos Apache Tribe of the San Carlos Reservation, Arizona; Tonto Apache Tribe of Arizona; White Mountain Apache Tribe of the Fort Apache Reservation, Arizona; and Yavapai-Apache Nation of the Camp Verde Indian Reservation, Arizona may proceed after that date if no additional claimants come forward.

Southwest Museum is responsible for notifying the Apache Tribe of Oklahoma; Fort Sill Apache Tribe of Oklahoma; Jicarilla Apache Nation, New Mexico; Mescalero Apache Tribe of the Mescalero Reservation, New Mexico; San Carlos Reservation, Arizona; Tonto Apache Tribe of Arizona; White Mountain Apache Tribe of the Fort Apache Reservation, Arizona; and Yavapai-Apache Nation of the Camp Verde Indian Reservation, Arizona that this notice has been published.

Dated: September 28, 2006.
Sherry Hutt,
Manager, National NAGPRA Program.

[FR Doc. E6-18509 Filed 11-1-06; 8:45 am]

BILLING CODE 4312-50-S